DEPARTMENT OF AGRICULTURE

Forest Service

Central Idaho Resource Advisory Committee

AGENCY: Forest Service, USDA.

ACTION: Notice of meeting.

SUMMARY: The Central Idaho Resource Advisory Committee will meet in Salmon, Idaho. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is monitoring of projects being implemented under Public Law 110-343 and, if authorized by the Secretary of Agriculture by the meeting date, to review and recommend projects to be funded under Public Law 112-141.

DATES: The meeting will be held August 16, 2012 at 9 a.m.

ADDRESSES: The meeting will be held at the Public Lands Center, 1206 S. Challis Street, Salmon, Idaho 83467.

All comments, including names and addresses when provided, are placed in the record and are available for public inspection and copying. The public may inspect comments received at Public Lands Center, 1206 S. Challis Street Salmon, Idaho 83467. Please call ahead to 208-756-5192 to facilitate entry into the building to view comments.

FOR FURTHER INFORMATION CONTACT: Karen E. Dunlap, Resource Advisory Committee Coordinator, 208-756-5192 (voice) or 208-756-5151 (fax) or email kdunlap@fs.fed.us.

Individuals who use telecommunication devices for the deaf (TDD) may call the Federal Information Relay Service (FIRS) at 1-800-877-8339 between 8:00 a.m. and 8:00 p.m., Eastern Standard Time, Monday through Friday. Requests for reasonable accommodation for access to the facility or proceedings may be made by contacting the person listed FOR FURTHER INFORMATION CONTACT.

SUPPLEMENTARY INFORMATION: The following business will be conducted: monitoring of projects being implemented under Public Law 110-343 and if authorized by the Secretary of Agriculture by the meeting date, to review and recommend projects to be funded under Public Law 112-141. An agenda will be posted at the following Web site address in advance of the meeting date: http://www.fs.usda.gov/scnf/. Individuals wishing to propose projects for possible funding by the CIRAC may do so by submitting proposals in writing by August 10, 2012 to Public Lands Center Attn: Karen Dunlap, 1206 S. Challis Street, Salmon, Idaho 83467 or by email to kdunlap@fs.fed.us, or via facsimile to 208-756-5151 in order to be scheduled on the agenda. A summary of the meeting will be posted at http://www.fs.usda.gov/scnf/ within 21 days of the meeting.

Dated: July 25, 2012.
Frank V. Guzman,
Forest Supervisor.

[FR Doc. 2012-18652 Filed 7-31-12; 8:45 am]

BILLING CODE 3410-11-P